DEPARTMENT OF LABOR

Occupational Safety and Health Administration

29 CFR Part 1910

Bloodborne Pathogens Standard; Corrections and Technical Amendment

AGENCY: Occupational Safety and Health Administration (OSHA), Labor.

ACTION: Final rule; corrections and technical amendment.

SUMMARY: OSHA is making a technical amendment to its Bloodborne Pathogens Standard by moving the rule's paragraph on sharps injury log requirements from paragraph (i), entitled “Dates,” to paragraph (h), entitled “Recordkeeping.”

DATES: The effective date for the corrections and technical amendment to the standard is April 3, 2012.

FOR FURTHER INFORMATION CONTACT: Press inquiries: Frank Meilinger, Director, Office of Communications, OSHA, U.S. Department of Labor, Room N-3647, 200 Constitution Avenue NW., Washington, DC 20210; telephone: (202) 693-1999.

General and technical information: Andrew Levinson, Director, OSHA Office of Biological Hazards, OSHA, Room N-3718, U.S. Department of Labor, 200 Constitution Avenue NW., Washington, DC 20210; telephone: (202) 693-1950.

SUPPLEMENTARY INFORMATION:

I. Background

On January 18, 2001, OSHA revised the Bloodborne Pathogens Standard (29 CFR 1910.1030) to include requirements of the Needlestick Safety and Prevention Act, November 6, 2000 (Pub. L. 106-430). These revisions included adding a fifth subparagraph, entitled “Sharps injury log,” to paragraph (h) of § 1910.1030 (66 FR 5325). However, in the July 1, 2001, publication of the CFR, subparagraph (5) was under paragraph (i) (“Dates”). These corrections and technical amendment relocate subparagraph (5) under paragraph (h) (“Recordkeeping”).

List of Subjects in 29 CFR Part 1910

Hazardous substances, Occupational safety and health, Reporting and recordkeeping requirements.

III. Authority and Signature

David Michaels, MPH, Ph.D., Assistant Secretary of Labor for Occupational Safety and Health, U.S. Department of Labor, 200 Constitution Avenue NW., Washington, DC 20210, authorized the preparation of this document. Accordingly, pursuant to Section 6 of the Occupational Safety and Health Act of 1970 (29 U.S.C. 655), Section 4 of the Administrative Procedures Act (5 U.S.C. 553), Secretary of Labor's Order No. 1-2012 (77 FR 3912), and 29 CFR 1911.5.

Signed at Washington, DC, on March 27, 2012.
David Michaels,
Assistant Secretary of Labor for Occupational Safety and Health.

Accordingly, revise 29 CFR part 1910 by making the following correcting amendments:

PART 1910—OCCUPATIONAL SAFETY AND HEALTH STANDARDS

1. The authority citation for part 1910. 1030 Subpart Z is revised to read as follows:

Authority: 29 U.S.C. 653, 655, and 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), or 1-2012 (77 FR 3912), as applicable, and 29 CFR 1911.

All of subpart Z issued under section 6(b) of the Occupational Safety and Health Act, except those substances that have exposure limits listed in Tables Z-1, Z-2, and Z-3 of 29 CFR 1910.1000. The latter were issued under section 6(a) (29 U.S.C. 655(a)).

Section 1910.1000, Tables Z-1, Z-2, and Z-3 also issued under 5 U.S.C. 553, Section 1910.1000 Tables Z-1, Z-2, and Z-3, but not under 29 CFR 1911, except for the arsenic (organic compounds), benzene, cotton dust, and chromium (VI) listings.

Section 1910.1001 also issued under 40 U.S.C. 3704 and 5 U.S.C. 553.

Section 1910.1002 also issued under 5 U.S.C. 553, but not under 29 U.S.C. 655 or 29 CFR 1911.

Sections 1910.1018, 1910.1029, and 1910.1200 also issued under 29 U.S.C. 653.

Section 1910.1030 also issued under Pub. L. 106-430, 114 Stat. 1901.

Section 1910.1201 also issued under 49 U.S.C. 1801-1819 and 5 U.S.C. 533.

2. In § 1910.1030, add paragraph (h)(5) and revise paragraph (i) to read as follows:

§ 1910.1030 Bloodborne pathogens.

* * * * *

(h) * * *

(5) Sharps injury log. (i) The employer shall establish and maintain a sharps injury log for the recording of percutaneous injuries from contaminated sharps. The information in the sharps injury log shall be recorded and maintained in such manner as to protect the confidentiality of the injured employee. The sharps injury log shall contain, at a minimum:

(A) The type and brand of device involved in the incident,

(B) The department or work area where the exposure incident occurred, and

(C) An explanation of how the incident occurred.

(ii) The requirement to establish and maintain a sharps injury log shall apply to any employer who is required to maintain a log of occupational injuries and illnesses under 29 CFR part 1904.

(iii) The sharps injury log shall be maintained for the period required by 29 CFR 1904.33.

(i) Dates—(1) Effective Date. The standard shall become effective on March 6, 1992.

(2) The Exposure Control Plan required by paragraph (c) of this section shall be completed on or before May 5, 1992.

(3) Paragraphs (g)(2) Information and Training and (h) Recordkeeping of this section shall take effect on or before June 4, 1992.

(4) Paragraphs (d)(2) Engineering and Work Practice Controls, (d)(3) Personal Protective Equipment, (d)(4) Housekeeping, (e) HIV and HBV Research Laboratories and Production Facilities, (f) Hepatitis B Vaccination and Post-Exposure Evaluation and Follow-up, and (g)(1) Labels and Signs of this section, shall take effect July 6, 1992.

* * * * *

[FR Doc. 2012-7715 Filed 4-2-12; 8:45 am]

BILLING CODE 4510-26-P